ELECTION ASSISTANCE COMMISSION

Charter of the U.S. Election Assistance Commission Technical Guidelines Development Committee

Establishment: In accordance with the requirements of section 221 of the Help America Vote Act of 2002 (Pub. L. 107-252), hereinafter referred to as the Act, the Election Assistance Commission (the “Commission”) hereby establishes the Technical Guidelines Development Committee (the “Committee”), pursuant to the Federal Advisory Committee Act, 5 U.S.C. App. 2.

Objectives and Duties: Pursuant to 42 U.S.C. 15361(b)(1), the Committee will act in the public interest to assist the Executive Director of the Commission in the development of the voluntary voting system guidelines.

Members and Chairperson: Membership: shall be composed of:

1. The Director of the National Institute of Standards and Technology (NIST) who shall serve as its chair.

2. A group of 14 other individuals appointed jointly by the Commission and the Director of NIST, consisting of the following:

A. An equal number of each of the following:

Members of the Standards Board, Members of the Board of Advisors, Members of the Architectural and Transportation Barrier, and Compliance Board (Access Board).

B. A representative of the American National Standards Institute.

C. A representative of the IEEE.

D. Two representatives of the NASED selected by such Association who are not members of the Standards Board or Board of Advisors, and who are not of the same political party.

E. Other individuals with technical and scientific expertise relating to voting systems and voting equipment.

Administrative Provisions:

1. The Committee shall report to the Executive Director of the Commission.

2. Selected staff within NIST's Information Technology Laboratory will provide staff support for the Committee.

3. The Committee shall meet at least three time per year, quarterly. The Chair of the EAC shall call the first meeting of the Committee. Thereafter, the Chair of the EAC or the Chair of the TGDC may call a meeting of the Committee.

4. Members of the Committee shall not be compensated for their services, but will, upon request, be allowed travel and per diem expenses in accordance with 5 U.S.C. 5701 et seq., while attending meetings of the Committee or subcommittees thereof, or while otherwise performing duties at the request of the Chair, while away from their homes or regular places of business.

5. The Committee shall function solely as an advisory body, in accordance with the provisions of the Federal Advisory Committee Act.

6. The annual cost of operating the Committee is estimated at $2.8 million, including all direct and indirect expenses. It is estimated that six FTE will be required to support the TGDC.

7. The Committee shall not act in the absence of a quorum, which shall consist of a simple majority of the members of the Committee not having a conflict of interest in the matter being considered by the Committee, except that, if the number of members on the Committee is even, half will suffice.

8. The EAC will create any subcommittees of the TGDC that may be necessary to accomplish the TGDC's function. In addition, the EAC will establish such operating procedures as required to support the TGDC, consistent with the Federal Advisory Committee Act, as amended.

Duration: While the duration of the Committee is continuing, the Charter shall be renewed every two years from the date of filing.

Charter Filing Date: This Charter was filed on the 23 day of June, 2004.

Paul S. DeGregorio,
Commissioner, U.S. Election Assistance Commission.

[FR Doc. 04-14642 Filed 6-25-04; 8:45 am]

BILLING CODE 6820-01-M